DEPARTMENT OF TRANSPORTATION

Federal Aviation Administration

14 CFR Part 39

[Docket No. FAA-2011-0912; Directorate Identifier 2011-NM-035-AD]

RIN 2120-AA64

Airworthiness Directives; 328 Support Services GmbH (Type Certificate Previously Held by AvCraft Aerospace GmbH; Fairchild Dornier GmbH; Dornier Luftfahrt GmbH) Model 328-100 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Several runway excursion incidents and a single accident have occurred in the past with Dornier 328-100 aeroplanes, where the power lever could not be operated as intended during the landing roll-out. * * *

Recurrence of such an event under similar conditions, if not corrected, could result in further cases of runway excursion, possibly resulting in damage to the aeroplane and injury to the occupants.

* * * * *

The proposed AD would require actions that are intended to address the unsafe condition described in the MCAI.

DATES: We must receive comments on this proposed AD by October 17, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact 328 Support Services GmbH, Global Support Center, P.O. Box 1252, D-82231 Wessling, Federal Republic of Germany; telephone +49 8153 88111 6666; fax +49 8153 88111 6565; e-mail gsc.op@328support.de; Internet http://www.328support.de. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Groves, Aerospace Engineer, International Branch, ANM-116, Transport Airplane Directorate, FAA, 1601 Lind Avenue, SW., Renton, Washington 98057-3356; telephone (425) 227-1503; fax (425) 227-1149.

SUPPLEMENTARY INFORMATION:

Comments Invited

We invite you to send any written relevant data, views, or arguments about this proposed AD. Send your comments to an address listed under the ADDRESSES section. Include “Docket No. FAA-2011-0912; Directorate Identifier 2011-NM-035-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0196, dated September 4, 2009 (referred to after this as “the MCAI”), to correct an unsafe condition for the specified products. The MCAI states:

Several runway excursion incidents and a single accident have occurred in the past with Dornier 328-100 aeroplanes, where the power lever could not be operated as intended during the landing roll-out. * * *

Recurrence of such an event under similar conditions, if not corrected, could result in further cases of runway excursion, possibly resulting in damage to the aeroplane and injury to the occupants.

A modification to the power lever control box has been designed to prevent further power lever handling difficulties.

For the reasons described above, this [EASA] AD requires a modification of the power lever control box as a retrofit for the entire fleet of 328-100 aeroplanes.

The required actions also include revising the airplane flight manual (AFM) to include Dornier 328-100 Temporary Revisions (TR) 04-078, 04-079, and 04-080, all dated March 15, 2010, to the Abnormal Procedures section of the 328 Support Services 328-100 AFM; and Dornier 328-100 TRs 05-064, 05-065, and 05-066, all dated February 13, 2009, to the Normal Procedures section of the 328 Support Services 328-100 AFM; to introduce modification of the engine control box assembly. You may obtain further information by examining the MCAI in the AD docket.

Relevant Service Information

328 Support Services GmbH has issued Service Bulletin SB-328-76-486, Revision 3, dated April 7, 2010; and Dornier 328-100 TRs 04-078, 04-079, and 04-080, all dated March 15, 2010, to the Abnormal Procedures section of the 328 Support Services 328-100 AFM; and Dornier 328-100 TRs 05-064, 05-065, and 05-066, all dated February 13, 2009, to the Normal Procedures section of the 328 Support Services 328-100 AFM. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 20 products of U.S. registry. We also estimate that it would take about 79 work-hours per product to comply with the basic requirements of this proposed AD. The average labor rate is $85 per work-hour. Required parts would cost about $35,700 per product. Where the service information lists required parts costs that are covered under warranty, we have assumed that there will be no charge for these parts. As we do not control warranty coverage for affected parties, some parties may incur costs higher than estimated here. Based on these figures, we estimate the cost of the proposed AD on U.S. operators to be $848,300, or $42,415 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

328 Support Services GmbH (Type Certificate Previously Held by AvCraft Aerospace GmbH; Fairchild Dornier GmbH; Dornier Luftfahrt GmbH): Docket No. FAA-2011-0912; Directorate Identifier 2011-NM-035-AD.

Comments Due Date

(a) We must receive comments by October 17, 2011.

Affected ADs

(b) None.

Applicability

(c) This AD applies to 328 Support Services GmbH (Type Certificate previously held by AvCraft Aerospace GmbH; Fairchild Dornier GmbH; Dornier Luftfahrt GmbH) Model 328-100 airplanes; all serial numbers; certificated in any category.

Subject

(d) Air Transport Association (ATA) of America Code 76: Engine Controls.

Reason

(e) The mandatory continuing airworthiness information (MCAI) states:

Several runway excursion incidents and a single accident have occurred in the past with Dornier 328-100 aeroplanes, where the power lever could not be operated as intended during the landing roll-out. * * *

Recurrence of such an event under similar conditions, if not corrected, could result in further cases of runway excursion, possibly resulting in damage to the aeroplane and injury to the occupants.

* * * * *

Compliance

(f) You are responsible for having the actions required by this AD performed within the compliance times specified, unless the actions have already been done.

Modification

(g) Within 15 months after the effective date of this AD, modify the engine control box assembly with additional aural alerting function and a revised power lever guiding gate, in accordance with the Accomplishment Instructions of 328 Support Services Service Bulletin SB-328-76-486, Revision 3, dated April 7, 2010.

Credit for Actions Accomplished in Accordance With Previous Service Information

(h) Modifications done before the effective date of this AD in accordance with 328 Support Services Service Bulletin SB-328-76-486, dated July 15, 2009; Revision 1, dated March 2, 2010; or Revision 2, dated March 11, 2010; are acceptable for compliance with the corresponding requirements of paragraph (g) of this AD.

Airplane Flight Manual Revisions

(i) Concurrently with doing the modification required in paragraph (g) of this AD, revise the 328 Support Services 328-100 Airplane Flight Manual (AFM) to include the information in the Dornier 328-100 temporary revisions (TRs) identified in table 1 of this AD. Operate the airplane according to the procedures in the TRs.

Table 1—Temporary Revisions
Subject— | Dornier 328-100 TR— | AFM Section— | Dated—
Power lever aural alert test | 05-064, 05-065, and 05-066 | Normal Procedures | February 13, 2009.
Nuisance power lever aural alert | 04-078 | Abnormal Procedures | March 15, 2010.
Engine Indication and Crew Alerting System (EICAS) caution “Proxi System” | 04-079 and 04-080 | Abnormal Procedures | March 15, 2010.

Note 1: Revising the AFM may be done by inserting copies of the TRs specified in table 1 of this AD, in the 328 Support Services 328-100 AFM. When these TRs have been included in general revisions of this AFM, the general revisions may be inserted in the AFM, provided the relevant information in the general revision of this AFM are identical to that in the TRs specified in table 1 of this AD, and these TRs may be removed.

FAA AD Differences

Note 2: This AD differs from the MCAI and/or service information as follows:

(1) Although the MCAI tells you to do an inspection for discrepancies, 328 Support Services Service Bulletin SB-328-76-486, Revision 3, dated April 7, 2010, does not include this action. The off-wing inspection included in the MCAI is not required to address the unsafe condition. The modification addresses the identified unsafe condition. Therefore, this AD does not include that requirement.

(2) Although the MCAI and service information do not include revising the AFM, this AD includes that requirement. The TRs specified in table 1 of this AD introduce pre-flight operational tests of the warning system modification, along with abnormal procedures that provide guidance to the flightcrew in the event of various potential warning system faults. These procedures must be adopted at the same time the modification is installed to ensure proper use and operation of the power lever warning system. This has been coordinated with EASA.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Groves, Aerospace Engineer, International Branch, ANM-116, Transport Airplane Directorate, FAA, 1601 Lind Avenue, SW., Renton, Washington 98057-3356; telephone (425) 227-1503; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI EASA Airworthiness Directive 2009-0196, dated September 4, 2009; 328 Support Services Service Bulletin SB-328-76-486, Revision 3, dated April 7, 2010; and the TRs specified in Table 1 of this AD; for related information.

Issued in Renton, Washington, on August 23, 2011.
Ali Bahrami,
Manager, Transport Airplane Directorate, Aircraft Certification Service.

[FR Doc. 2011-22226 Filed 8-30-11; 8:45 am]

BILLING CODE 4910-13-P